DEPARTMENT OF STATE

[Public Notice 3343]

Bureau of Educational and Cultural Affairs Request for Proposals: Curriculum Development in International Convention and Conference Management at Meio University, Okinawa, Japan; Notice

SUMMARY: The Office of Global Educational Programs of the Bureau of Educational and Cultural Affairs in the Department of State announces an open competition for an award program to assist Meio University, Okinawa, Japan, in strengthening its curriculum in convention and conference management in ways that will contribute to the prefecture's long-term international development goals and to building closer U.S.-Japanese people-to-people relations in Okinawa. Accredited, post-secondary educational institutions meeting the provisions described in IRS regulation 26 CFR 1.501(c) may submit proposals that address this objective. The means for achieving this objective may include teaching, distance learning, practicums and student internships of up to 12 months, and professional outreach from the U.S. and Okinawan institutions participating in this project.

Overview

The program is designed to assist Meio University to strengthen its curriculum in convention and conference management education to promote greater diversification and economic development in the prefecture of Okinawa, which is attempting to expand its economy internationally, including its international conference and convention capabilities. The prefecture is in the process of building the physical infrastructure to support tourism. New conference and convention facilities are being constructed, hotels are being upgraded, and telecommunications are being improved to accommodate tourists. However, there is a need to prepare qualified professionals in the fields of convention and conference management to utilize the prefecture's infrastructure resources more effectively.

Project Objective

The objective of this Department of State assistance program is to reinforce these efforts and to build closer U.S.-Japanese people-to-people relations in Okinawa by awarding one grant of up to $125,000 for a partnership in the fields of convention and conference management between a U.S. college or university and Meio University, Okinawa. Grants will not be awarded to organizations with less than four years of experience in conducting international exchange programs. The funds will be awarded for a period up to three years to defray the costs of either one-or two-way exchanges, to provide education materials, and to provide approximately 20 percent of the grand total to defray the costs of the project administration.

The project should pursue this objective through a strategy which coordinates the participation of faculty, administrators or, in limited circumstances, students for any appropriate combination of teaching, consultation, mentoring, student internships, and outreach, for exchange visits ranging from one week to an academic year. Two-way exchanges are encouraged, but no single formula is anticipated for the duration, sequence or number of these visits. One semester visits or more for participants from at least one of the institutional partners are strongly encouraged. Participants should make their training and personnel resources available to government, non-governmental organizations, and business practitioners.

Logistics

The U.S. grantee organization will be responsible for most arrangements associated with this project. These include providing international and domestic travel arrangements for all participants, making lodging and local transportation arrangements for visitors, orienting and debriefing participants, and preparing any necessary support material.

VISA/Insurance/Tax Requirements

Programs must comply with J-1 visa regulations including those pertaining to insurance. Please refer to Solicitation Package for further information. Administration of the program must be in compliance with reporting and withholding regulations for Federal, state, and local taxes as applicable. Recipient organizations should demonstrate tax regulation adherence in the proposal narrative and budget.

U.S. Institution and Participant Eligibility

In the United States, participation in the program is open to accredited two-and four-year colleges and universities, including graduate schools. Applications from community colleges, minority-serving institutions, undergraduate liberal arts colleges, and combinations of these types of institutions are eligible. Applications from consortia or other combinations of U.S. colleges and universities are eligible. Secondary U.S. partners may include non-governmental organizations as well as non-profit service and professional organizations. The lead U.S. organization in the consortium or other combination of cooperating institutions is responsible for submitting the application. Each application must document the lead organization's authority to represent all U.S. cooperating partners.

With the exception of outside consultants reporting on the degree to which project objectives have been achieved, participants representing the U.S. institution who are traveling under the Bureau's grant funds should be teachers, students, or administrators from the participating institution(s). Participants representing the U.S. institution must be U.S. citizens. Students are eligible for Bureau-funded participation in this program.

Japanese Institution and Participant Eligibility

In Japan, the partner is Meio University, Okinawa, which has a curriculum in management and a four-year tourism program under its Faculty of International Studies. Additional information is provided in the “Project Objectives, Goals, and Implementation (POGI)” guidelines for this solicitation.

Secondary foreign partners may include relevant governmental and non-governmental organizations, as well as non-profit service and professional organizations.

With the exception of outside consultants reporting on the degree to which project objectives have been achieved, participants representing the foreign institution must be teachers, administrators, or students from Meio University. Foreign participants must be citizens, nationals, or permanent residents of Japan and must be qualified to hold a valid passport and a U.S. J-1 visa.

Budget Guidelines

Applicants must submit a comprehensive budget for the entire project. The maximum award in this competition will be for one grant in the amount of $125,000. Requests for an amount smaller than the maximum are eligible. Budget and budget notes should carefully justify the amounts needed. There must be a summary budget as well as a break-down reflecting the program and administrative budgets. Proposals with substantial private sector support will be rated as more highly competitive in this regard than those without such support. Cost-sharing will be considered an important indicator of institutional commitment. Proposals whose administrative request from the Bureau is less than 20 percent of the total amount of funds requested from the Bureau will receive more favorable consideration. Applicants may provide separate sub-budgets for each program component, phase, participants involved, or activity to provide clarification. Please refer to the Solicitation Package for complete guidelines and formatting instructions.

Announcement Title and Number

All correspondence with the Bureau of Educational and Cultural Affairs concerning this RFP should reference the program title “Curriculum Development in Convention and Conference Management Project at Meio University, Okinawa, Japan” and number ECA/A/S/U-01-07.

FOR FURTHER INFORMATION CONTACT: Contact the Humphrey Fellowships and Institutional Linkages Branch, Office of Global Educational Programs, Bureau of Educational and Cultural Affairs; ECA/A/S/U, Room 349, SA-44; U.S. Department of State, 301 4th Street, SW, Washington, DC 20547, phone (202) 619-5289, fax: (202) 401-1433, e-mail: affiliation@pd.state.gov to request a Solicitation Package. The Solicitation Package contains detailed award criteria, required application forms, and guidelines for preparing proposals, including specific criteria for preparation of the proposal budget. Please specify “Reference number ECA/A/S/U-01-07” on all inquiries and correspondence.

Please read the complete RFP announcement before sending inquiries or submitting proposals. Once the RFP deadline has passed, Bureau staff may not discuss this competition with applicants until the proposal review process has been completed.

To Download a Solicitation Package Via Internet

The entire Solicitation Package may be downloaded from the Bureau's website at http://exchanges.state.gov/education/rfps. Please read all information before downloading.

Deadline for Proposal

All proposal copies must be received at the State Department's Bureau of Educational and Cultural Affairs by 5 p.m. Washington DC time on Friday, September 29, 2000. Faxed documents will not be accepted at any time. Documents postmarked by the due date but received on a later date will not be accepted. It is the responsibility of each applicant to ensure compliance with the deadline.

Approximate Program Dates

Grants should begin on or about January 1, 2001.

Duration

January 1, 2001 to December 31, 2004 or before.

Submissions

Proposals must be submitted by the U.S. institutional partner and must include letters of commitment from all U.S. institutional partners. The letters should be signed by persons authorized to commit institutional resources to the project.

Applicants must follow all instructions in the Solicitation Package. The original and 10 copies of the application should be sent to:

U.S. Department of State, SA-44, Ref.: ECA/A/S/U-01-07, Program Management, ECA/EX/PM, Room 336, 301 4th Street, SW., Washington, DC 20547.

All copies should include the documents specified under Tabs A through E in the “Project Objectives, Goals, and Implementation” (POGI) section of the Solicitation Package. The documents under Tab F of the POGI should be submitted with the original application and with one of the ten copies. Proposals that do not follow RFP requirements and the guidelines appearing in the POGI and PSI may be excluded from consideration due to technical ineligibility.

Applicants must also submit the “Executive Summary” and “Proposal Narrative” Sections of the proposal on a 3.5″ diskette, formatted for DOS. This material must be provided in ASCII text (DOS) format with a maximum line length of 65 characters. The Bureau will transmit these files electronically to the Public Affairs Section of the U.S. Embassy in Tokyo for its review, with the goal of reducing time it takes to get the post's comments for the Bureau's grants review process.

Diversity, Freedom and Democracy Guidelines

Pursuant to the Bureau's authorizing legislation, projects must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should account for advancement of this goal, in their program contents, to the full extent deemed feasible.

Year 2000 Compliance Requirement (Y2K Requirement)

The Year 2000 (Y2K) issue is a broad operational and accounting problem that could potentially prohibit organizations from processing information in accordance with Federal management and program specific requirements including data exchange with the Department of State. The inability to process information in accordance with Federal requirements could result in grantees' being required to return funds that have not been accounted for properly.

The Department of State therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Criteria

State Department officers in Washington, DC and overseas will use the criteria below to reach funding recommendations and decisions. Technically eligible applications will be competitively reviewed according to the criteria stated below. These criteria are not rank-ordered or weighed.

1. Quality of the Program Idea

Proposals should exhibit originality, substance, precision, and resourcefulness. Proposals should have reasonable and feasible project objectives which are relevant to strengthening Meio University's curriculum in convention and conference management. Proposals should describe projected benefits to the institutions involved as well as for wider communities of educators and practitioners in Okinawa and the United States.

2. Program Planning

Proposals should include realistic and feasible program plans and a detailed schedule which should include a well-reasoned combination of useful and appropriate mentoring, teaching, faculty and/or staff development, curriculum development (including distance learning if conditions allows it), and workshops with business practitioners in Okinawa.

3. Support of Diversity

Proposals should demonstrate substantive support of the Bureau's policy on diversity by explaining how issues of diversity relate to project objectives and how these issues will be addressed during the project implementation. Proposals should also outline the institutional profile of each participating institution with regard to issues of diversity.

4. Institutional Capacity and Commitment

Proposals should demonstrate significant understanding of the institutional needs and capacities of Meio University as well as the U.S. institution's capacities, and demonstrate a strong commitment, during and after the period of the grant activity, to achieve program goals. Relevant factors include: The match between partner departments and schools; and availability of sufficient number of faculty and/or administrators willing and able to participate in any combination of teaching, mentoring and outreach activities. Proposals should demonstrate promise of sustainability and long-term impact which will be reflected in a plan for continued, non-U.S. government support and follow-on activities.

5. Institutional Record/Ability

Proposals should demonstrate an institutional record of successful exchange programs, including responsible fiscal management and full compliance with all reporting requirements for past Bureau grants as determined by the State Department's Office of Contracts. The Bureau will consider the past performance of prior recipients and all reviewers will consider the demonstrated potential of new applicants. Reviewers will also consider the quality of exchange participants' academic credentials, skills, and experience relative to the goals and activities of the project plan.

6. Project Evaluation

The proposal should outline a methodology to assess progress made in supporting a program to strengthen a curriculum in conference and convention management at Meio University. The final evaluation should include an external component and should provide observations about the anticipated long-term impact on diversification and economic development in the prefecture of Okinawa.

7. Cost-Effectiveness

Administrative and program costs should be reasonable and appropriate with cost-sharing provided by all participating institutions within the context of their respective capacities and as a reflection of their commitment to cooperation with one another in pursuing project objectives. Although indirect costs are eligible for inclusion among other shared costs, a proposed contribution of indirect costs will not be considered a primary indicator of institutional interest or commitment. Proposals with substantial private sector support and those whose administrative request from the Bureau is less than 20 percent of the amount requested will be considered more highly competitive in this regard.

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * * and thus to assist in the development of friendly, sympathetic and peaceful relations between the United States and the other countries of the world.” The funding authority for the program cited above is provided through the Fulbright-Hays Act.

Notice

The terms and conditions published in this RFP are binding and may not be modified by any Bureau representative. Explanatory information provided by the Bureau that contradicts published language will not be binding. Issuance of the RFP does not constitute an award commitment on the part of the Government. The Bureau reserves the right to reduce, revise, or increase proposals in accordance with the needs of the program and the availability of funds. Awards made will be subject to periodic reporting and evaluation requirements.

Projects must conform with Department of State requirements and guidelines outlined in the solicitation Package. The POGI, a document describing this project's objectives, goals, and implementation is included in the Solicitation Package.

Notification

Final awards cannot be made until funds have been appropriated by Congress, allocated and committed through internal Bureau procedures.

Dated: June 20, 2000.
Evelyn S. Lieberman,
Under Secretary for Public Diplomacy and Public Affairs, U.S. Department of State.

[FR Doc. 00-16505 Filed 6-28-00; 8:45 am]

BILLING CODE 4710-11-P